DEPARTMENT OF ENERGY

Federal Energy Regulatory Commission

[Docket No. RP96-389-035]

Columbia Gulf Transmission Co.; Notice of Negotiated Rate Filing

November 8, 2001.

Take notice that on November 5, 2001, Columbia Gulf Transmission Company (Columbia Gulf) tendered for filing the following tariff sheets as part of its FERC Gas Tariff, Second Revised Volume No. 1:

Original Sheet No. 20A

Original Sheet No. 20B

Original Sheet No. 21

Columbia Gulf states that it is filing the tariff sheets to comply with the Commission's October 24, 2001 orders approving negotiated rate agreements in Docket Nos. RP96-389-031, and -032.

Columbia Gulf states further that copies of the filing served copies of the filing on all parties identified on the official service list in Docket No. RP96-389.

Any person desiring to be heard or to protest said filing should file a motion to intervene or a protest with the Federal Energy Regulatory Commission, 888 First Street, NE., Washington, DC 20426, in accordance with §§ 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28596 Filed 11-14-01; 8:45 am]

BILLING CODE 6717-01-P